DEPARTMENT OF ENERGY

Federal Energy Regulatory Commission

Combined Notice of Filings #1

July 23, 2008.

Take notice that the Commission received the following electric corporate filings:

Docket Numbers: EC08-112-000.

Applicants: Brush Cogeneration Partners, Ripon Cogeneration, LLC, Fort Chicago Power Colorado LLC.

Description: Brush Cogeneration Partners et al. submits an application for authorization for disposition of jurisdictional facilities and request for expedited action.

Filed Date: 07/17/2008.

Accession Number: 20080718-0203.

Comment Date: 5 p.m. Eastern Time on Thursday, August 07, 2008.

Docket Numbers: EC08-113-000.

Applicants: Brush Cogeneration Partners.

Description: Brush Cogeneration Partners submits Application for Authorization under section 203 of the Federal Power Act for Disposition of Jurisdictional Facilities and Request for Expedited Action.

Filed Date: 07/17/2008.

Accession Number: 20080718-0201.

Comment Date: 5 p.m. Eastern Time on Thursday, August 7, 2008.

Take notice that the Commission received the following exempt wholesale generator filings:

Docket Numbers: EG08-81-000.

Applicants: Sherbino I Wind Farm LLC.

Description: Notice of Self-Certification as an Exempt Wholesale Generator of Sherbino I Wind Farm LLC.

Filed Date: 07/17/2008.

Accession Number: 20080717-5116.

Comment Date: 5 p.m. Eastern Time on Thursday, August 7, 2008.

Take notice that the Commission received the following electric rate filings:

Docket Numbers: ER99-4122-028; ER99-4124-024; ER07-428-006.

Applicants: Arizona Public Service Company, PINNACLE WEST MARKETING & TRADING CO, LL, APS Energy Services Company.

Description: Notices of change in status.

Filed Date: 07/14/2008.

Accession Number: 20080714-5072.

Comment Date: 5 p.m. Eastern Time on Monday, August 4, 2008.

Docket Numbers: ER00-1952-007; ER01-1784-010; ER99-1248-009; ER08-333-003; ER03-222-009; ER08-851-002.

Applicants: Black Hills Colorado, LLC; Fountain Valley Power, LLC; Harbor Cogeneration Company, LLC; Las Vegas Cogeneration LP; Las Vegas Cogeneration II, LLC; Valencia Power, LLC.

Description: Black Hills Colorado, LLC et al. notifies FERC of a non-material change in status with respect to the market-based rate authority of the Southwest Generation Utilities.

Filed Date: 07/17/2008.

Accession Number: 20080721-0016.

Comment Date: 5 p.m. Eastern Time on Thursday, August 7, 2008.

Docket Numbers: ER04-157-029; ER04-714-019; EL05-89-008.

Applicants: Bangor Hydro-Electric Company; Florida Power & Light Company; New England.

Description: Central Vermont Public Service Corporation submits its additional billings report in compliance with the Commission's 3/24/08 rehearing order in Bangor Hydro-Electric Co. etc.

Filed Date: 07/14/2008.

Accession Number: 20080716-0005.

Comment Date: 5 p.m. Eastern Time on Monday, August 4, 2008.

Docket Numbers: ER05-168-005; ER06-274-010; EL05-19-006.

Applicants: Southwestern Public Service Company.

Description: Golden Spread Electric Cooperative Inc. et al. submits Amendment 1 to Offer of Settlement and Settlement Agreement.

Filed Date: 07/18/2008.

Accession Number: 20080722-0047.

Comment Date: 5 p.m. Eastern Time on Friday, August 8, 2008.

Docket Numbers: ER06-864-013; ER07-1117-004; ER05-1232-012.

Applicants: Bear Energy LP; BE KJ LLC; J.P. Morgan Ventures Energy Corp.

Description: Bear Energy LP et al. submits Third Revised Sheet 1 et al. to FERC Rate Schedule FERC 1.

Filed Date: 07/17/2008.

Accession Number: 20080721-0015.

Comment Date: 5 p.m. Eastern Time on Thursday, August 7, 2008.

Docket Numbers: ER06-1512-002.

Applicants: Verso Androscoggin LLC.

Description: Amendment to Request for Category 1 Seller Determination of Verso Androscoggin LLC.

Filed Date: 07/18/2008.

Accession Number: 20080718-5076.

Comment Date: 5 p.m. Eastern Time on Friday, August 8, 2008.

Docket Numbers: ER07-1372-002.

Applicants: Midwest Independent Transmission System.

Description: North American Electric Reliability Corp hereby grants Midwest ISO, Inc's request dated 4/13/07 for certification as a Joint Registered Balancing Authority, including its Local Control Centers etc.

Filed Date: 07/14/2008.

Accession Number: 20080716-0032.

Comment Date: 5 p.m. Eastern Time on Monday, August 4, 2008.

Docket Numbers: ER07-1421-003; ER07-1422-003; ER08-549-002; ER08-550-002; ER08-573-001; ER08-574-001.

Applicants: PJM Interconnection, L.L.C.; Virginia Electric and Power Company.

Description: Industrial Power Generating Company LLC et al. submits a Settlement Agreement and Offer Settlement.

Filed Date: 07/18/2008.

Accession Number: 20080718-0197.

Comment Date: 5 p.m. Eastern Time on Friday, August 8, 2008.

Docket Numbers: ER08-549-002; ER08-550-002; ER08-573-001; ER08-574-001.

Applicants: PJM Interconnection, L.L.C.; Virginia Electric and Power Company.

Description: Industrial Power Generating Company LLC et al. submits a Settlement Agreement and Offer Settlement.

Filed Date: 07/18/2008.

Accession Number: 20080718-0197.

Comment Date: 5 p.m. Eastern Time on Friday, August 8, 2008

Docket Numbers: ER08-637-003.

Applicants: Midwest Independent Transmission System Operator, Inc.

Description: Midwest Independent Transmission System Operator, Inc. submits its proposed revisions to its Open Access Transmission and Energy Markets Tariff to comply with specific directives set forth in FERC's 6/13/08 Order.

Filed Date: 07/14/2008.

Accession Number: 20080715-0142.

Comment Date: 5 p.m. Eastern Time on Monday, August 4, 2008.

Docket Numbers: ER08-746-002.

Applicants: Southwest Power Pool, Inc.

Description: Southwest Power Pool, Inc. submits a amendatory filing to correct the clerical error in the Open Access Transmission Tariff language proposed in the June 25, 2008 filing.

Filed Date: 07/18/2008.

Accession Number: 20080721-0014.

Comment Date: 5 p.m. Eastern Time on Friday, August 8, 2008.

Docket Numbers: ER08-821-002.

Applicants: Hazleton Generation LLC.

Description: Hazelton Generation LLC submits an application for determination that it is a Category 1 Seller.

Filed Date: 07/18/2008.

Accession Number: 20080722-0048.

Comment Date: 5 p.m. Eastern Time on Friday, August 8, 2008.

Docket Numbers: ER08-884-001; ER08-913-001.

Applicants: Midwest Independent Transmission System; Independent Transmission System Operator.

Description: Midwest Independent Transmission System Operator, Inc. et al. submits proposed Appendix H of the Congestion Management Process of their Joint Operating Agreements in compliance with FERC's July 1 Order.

Filed Date: 07/16/2008.

Accession Number: 20080718-0196.

Comment Date: 5 p.m. Eastern Time on Wednesday, August 6, 2008.

Docket Numbers: ER08-996-002.

Applicants: CBA Endeavors, LLC.

Description: CBA Endeavors, LLC requests acceptance of FERC Electric Tariff, Original Volume 1 under which it will engage in wholesale sales of electric energy, and capacity at market-based rates, the grant of certain blanket approvals and waiver etc.

Filed Date: 07/14/2008.

Accession Number: 20080715-0143.

Comment Date: 5 p.m. Eastern Time on Monday, August 4, 2008.

Docket Numbers: ER08-1147-001.

Applicants: SG Energy LLC.

Description: SG Energy, LLC's Amended Petition for Acceptance of Initial Tariff, Waivers and Blanket Authority, Original Volume 1.

Filed Date: 07/14/2008.

Accession Number: 20080716-0004.

Comment Date: 5 p.m. Eastern Time on Monday, August 4, 2008.

Docket Numbers: ER08-1250-000.

Applicants: Haverhill North Coke Company.

Description: Haverhill North Coke Company submits an application for Market-Based Rate Authority, Certain Blanket Authorizations and Request for Expedited Consideration.

Filed Date: 07/14/2008.

Accession Number: 20080715-0200.

Comment Date: 5 p.m. Eastern Time on Monday, August 4, 2008.

Docket Numbers: ER08-1258-000.

Applicants: New York Independent System Operator, Inc.

Description: Report of tariff implementation issues and request for tariff waivers of the New York Independent System Operator Inc.

Filed Date: 07/14/2008.

Accession Number: 20080715-0017.

Comment Date: 5 p.m. Eastern Time on Monday, August 4, 2008.

Docket Numbers: ER08-1259-000.

Applicants: Midwest Independent Transmission System.

Description: Midwest Independent Transmission System Operator Inc submits First Revised Service Agreement 1497 under FERC Electric Tariff, Third Revised Volume 1.

Filed Date: 07/14/2008.

Accession Number: 20080715-0018.

Comment Date: 5 p.m. Eastern Time on Monday, August 4, 2008.

Docket Numbers: ER08-1264-000.

Applicants: Arizona Public Service Company.

Description: Arizona Public Service Company submits a revision to APS's Open Access Transmission Tariff.

Filed Date: 07/14/2008.

Accession Number: 20080715-0150.

Comment Date: 5 p.m. Eastern Time on Monday, August 4, 2008.

Docket Numbers: ER08-1265-000.

Applicants: Southwest Power Pool, Inc.

Description: Southwest Power Pool submits a Letter Agreement between SPP as Transmission Provider, American Electric Power Service Corporation as the Transmission Customer and AEP as agent for Southwestern Electric Power Company etc.

Filed Date: 07/14/2008.

Accession Number: 20080715-0149.

Comment Date: 5 p.m. Eastern Time on Monday, August 4, 2008.

Docket Numbers: ER08-1266-000.

Applicants: PJM Interconnection, L.L.C.

Description: PJM Interconnection, LLC submits an executed Interin Interconnection Service Agreement entered into among PJM, Virginia Electric and Power Company and Virginia Electric and Power Company.

Filed Date: 07/14/2008.

Accession Number: 20080715-0148.

Comment Date: 5 p.m. Eastern Time on Monday, August 4, 2008.

Docket Numbers: ER08-1267-000.

Applicants: PJM Interconnection, L.L.C.

Description: PJM Interconnection, LLC submits an interconnection service agreement and interconnection construction agreement among PJM PPL Renewable Energy LLC and Pennsylvania Electric Company a FirstEnergy Company.

Filed Date: 07/14/2008.

Accession Number: 20080715-0147.

Comment Date: 5 p.m. Eastern Time on Monday, August 4, 2008.

Docket Numbers: ER08-1276-000.

Applicants: Southern California Edison Company.

Description: Southern California Edison Co submits a Service Agreement for Wholesale Distribution Service et al.

Filed Date: 07/17/2008.

Accession Number: 20080718-0195.

Comment Date: 5 p.m. Eastern Time on Thursday, August 7, 2008.

Docket Numbers: ER08-1277-000.

Applicants: ISO New England Inc., New England Power Pool.

Description: ISO New England, Inc et al. submits 1st Revised Sheet 519 et al. to FERC Electric Tariff 3.

Filed Date: 07/17/2008.

Accession Number: 20080718-0248.

Comment Date: 5 p.m. Eastern Time on Thursday, August 7, 2008.

Docket Numbers: ER08-1278-000.

Applicants: PacifiCorp.

Description: PacifiCorp submits Revision 6 to Appendix A First Revised FERC Rate Schedule 297 et al.

Filed Date: 07/17/2008.

Accession Number: 20080718-0247.

Comment Date: 5 p.m. Eastern Time on Thursday, August 7, 2008.

Docket Numbers: ER08-1279-000.

Applicants: Southaven Power, LLC.

Description: Southaven Power LLC submits a notice of cancellation of FERC Electric Tariff, First Revised Volume 1.

Filed Date: 07/18/2008.

Accession Number: 20080722-0045.

Comment Date: 5 p.m. Eastern Time on Friday, August 8, 2008.

Docket Numbers: ER08-1280-000.

Applicants: Southwest Power Pool, Inc.

Description: Southwest Power Pool, Inc. submits the Agreements include terms and conditions that do not conform to the standard form of service agreement that is in SPP's Open Access Transmission Tariff.

Filed Date: 07/18/2008.

Accession Number: 20080722-0046.

Comment Date: 5 p.m. Eastern Time on Friday, August 8, 2008.

Docket Numbers: ER08-1286-000.

Applicants: Pacific Gas and Electric Company.

Description: Pacific Gas and Electric Company submits Revised Rate Schedule 114 with the City and County of San Francisco.

Filed Date: 07/22/2008.

Accession Number: 20080723-0033.

Comment Date: 5 p.m. Eastern Time on Tuesday, August 12, 2008.

Docket Numbers: ER08-1287-000.

Applicants: Nevada Power Company.

Description: Nevada Power Company submits an executed Agreement for Dynamic Scheduling of the Apex Generating Station between Nevada Power Company and Las Vegas Power Company.

Filed Date: 07/22/2008.

Accession Number: 20080723-0032.

Comment Date: 5 p.m. Eastern Time on Tuesday, August 12, 2008.

Take notice that the Commission received the following electric reliability filings:

Docket Numbers: RR06-1-017; RR07-1-004; RR07-2-004; RR07-3-005; RR07-4-004; RR07-5-005; RR07-6-004; RR07-7-004; RR07-8-005; RR07-8-005.

Applicants: North American Electric Reliability Corp.

Description: Compliance Filing of the North American Electric Reliability Corporation in Response to March 21 2008 Order in Dockets RR06-1 et al. including Attachments 1 through 11.

Filed Date: 07/21/2008.

Accession Number: 20080721-5060.

Comment Date: 5 p.m. Eastern Time on Monday, August 11, 2008.

Docket Numbers: RR07-14-000.

Applicants: North American Electric Reliability Corp.

Description: Compliance Filing of the North American Electric Reliability Corporation in Response to FERC Order on Filing of Reliability Enhancement Programs.

Filed Date: 07/21/2008.

Accession Number: 20080721-5179.

Comment Date: 5 p.m. Eastern Time on Wednesday, August 20, 2008.

Docket Numbers: RR07-16-004.

Applicants: North American Electric Reliability Corp.

Description: North American Electric Reliability Corporation's compliance filing in Response to the Commission's June 19, 2008 Order.

Filed Date: 07/21/2008.

Accession Number: 20080721-5166.

Comment Date: 5 p.m. Eastern Time on Wednesday, August 20, 2008.

Docket Numbers: RR08-4-002.

Applicants: North American Electric Reliability Corp.

Description: Compliance Filing in Response to Paragraph 40 of Order on Violation Severity Levels.

Filed Date: 07/21/2008.

Accession Number: 20080721-5177.

Comment Date: 5 p.m. Eastern Time on Wednesday, August 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-17498 Filed 7-30-08; 8:45 am]

BILLING CODE 6717-01-P